DEPARTMENT OF AGRICULTURE

Animal and Plant Health Inspection Service

[Docket No. APHIS-2024-0068]

Notice of Decision To Authorize the Importation of Fresh Rhizomes of Wasabi From Indonesia Into the United States

AGENCY: Animal and Plant Health Inspection Service, U.S. Department of Agriculture.

ACTION: Notice.

SUMMARY: We are advising the public of our decision to authorize the importation of fresh rhizomes of wasabi, Eutrema japonicum (Miq.) Koidz. (Brassicaceae), into the United States for consumption from Indonesia. Based on the findings of a pest risk analysis, which we made available to the public for review and comment through a previous notice, we have determined that the application of one or more designated phytosanitary measures will be sufficient to mitigate the risks of introducing or disseminating plant pests or noxious weeds via the importation of fresh rhizomes of wasabi from Indonesia.

DATES: Imports may be authorized beginning April 23, 2025.

FOR FURTHER INFORMATION CONTACT: Mr. Hesham Abuelnaga, Senior Regulatory Policy Specialist, Regulatory Coordination and Compliance, PPQ, APHIS, 69 Thomas Johnson Dr., Frederick, MD 21702; (301) 820-8791; Hesham.A.Abuelnaga@usda.gov.

SUPPLEMENTARY INFORMATION:

Background

Under the regulations in “Subpart L—Fruits and Vegetables” (7 CFR 319.56-1 through 319.56-12, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. Under this process, APHIS proposes to authorize the importation of a fruit or vegetable into the United States if, based on the findings of a pest risk analysis, we determine that the measures can mitigate the plant pest risk associated with the importation of that fruit or vegetable. APHIS then publishes a notice in the Federal Register announcing the availability of the pest risk analysis that evaluates the risks associated with the importation of that fruit or vegetable. Following the close of the 60-day comment period, APHIS will issue a subsequent notice in the Federal Register announcing whether or not we will authorize the importation of the fruit or vegetable subject to the phytosanitary measures specified in the notice.

In accordance with that process, we published a notice ¹ in the Federal Register on January 16, 2025 (90 FR 4714-4715, Docket No. APHIS-2024-0068), in which we announced the availability, for review and comment, of a pest risk analysis that evaluated the risks associated with the importation into the United States of fresh rhizomes of wasabi, Eutrema japonicum (Miq.) Koidz. (Brassicaceae), for consumption from Indonesia. The pest risk analysis consisted of a risk assessment identifying pests of quarantine significance that could follow the pathway of importation of fresh rhizomes of wasabi from Indonesia and a risk management document (RMD) identifying phytosanitary measures to be applied to that commodity to mitigate the pest risk.

¹ To view the notice, supporting documents, and the comments we received, go to www.regulations.gov. Enter APHIS-2024-0068 in the Search field.

We solicited comments on the notice for 60 days ending March 17, 2025. We received two comments by that date, one from a wasabi grower in Indonesia and the other from the national plant protection organization (NPPO) of Indonesia.

The comment from the Indonesian wasabi grower expressed unqualified support for the notice.

The commenter representing the NPPO asked that we remove the requirement for the phytosanitary certificate (PC) to state that the consignment is free of pests, pointing out that our pest risk assessment (PRA) did not identify any quarantine pests that could follow the pathway of the importation of wasabi from Indonesia. As specified in the RMD that accompanied the initial notice, the Indonesian NPPO must inspect each consignment of commercially produced wasabi to be imported into the United States and issue a PC for each consignment stating that the consignment is free of pests.

We are making no changes in response to the request to amend the PC requirements. The requirements for the PC are modeled after the International Plant Protection Convention in its International Standards for Phytosanitary Measures No. 12, “Guidelines for Phytosanitary Certificates,” which includes a certification that the consignment has been inspected and/or tested according to appropriate official procedures and is considered to be free from the quarantine pests specified by the importing contracting party and to conform with the current phytosanitary requirements of the importing contracting party, including those for regulated non-quarantine pests.² In this regard, we note that our PRA evaluated the plant pest risk associated with commercially produced wasabi from Indonesia intended for export for consumption, and this does not obviate the need for individual consignments to be inspected for plant pests and certified as free. For example, the PRA did not evaluate the plant pest risk associated with consignments that have been produced under noncommercial practices or commingled with noncommercially produced wasabi.

² https://openknowledge.fao.org/server/api/core/bitstreams/4ae0018d-5df7-4b26-b847-592254042548/content.

The commenter also asked that the name of the NPPO be updated in the Economic Effects Assessment (EEA) from “Ministry of Agriculture, Agency for Agricultural Quarantine” to “the Indonesian Quarantine Authority.”

We are making no changes to the EEA based on the name change of the NPPO. We acknowledge and agree that the name has been updated but as this name change does not impact the conclusions of the EEA, we are not revising it at this time. We will, however, incorporate this name change in any future documents.

Therefore, in accordance with § 319.56-4(c)(3)(iii), we are announcing our decision to authorize the importation into the United States of fresh rhizomes of wasabi, Eutrema japonicum (Miq.) Koidz. (Brassicaceae), for consumption from Indonesia subject to the phytosanitary measures identified in the RMD that accompanied the initial notice.

These conditions will be listed in the U.S. Department of Agriculture's, APHIS Agricultural Commodity Import Requirements (ACIR) database (https://acir.aphis.usda.gov/s/). In addition to these specific measures, each shipment must be subject to the general requirements listed in § 319.56-3 that are applicable to the importation of all fruits and vegetables.

Paperwork Reduction Act

In accordance with the Paperwork Reduction Act of 1995 (44 U.S.C. 3501 et seq.), the recordkeeping and burden requirements associated with this action are covered under the Office of Management and Budget control number 0579-0049.

E-Government Act Compliance

The Animal and Plant Health Inspection Service is committed to compliance with the E-Government Act to promote the use of the internet and other information technologies, to provide increased opportunities for citizen access to Government information and services, and for other purposes. For information pertinent to E-Government Act compliance related to this notice, please contact APHIS.PRA@usda.gov.

(Authority: 7 U.S.C. 1633, 7701-7772, and 7781-7786; 21 U.S.C. 136 and 136a; 7 CFR 2.22, 2.80, and 371.3.)

Done in Washington, DC, this 17th day of April 2025.
Michael Watson,
Administrator, Animal and Plant Health Inspection Service.

[FR Doc. 2025-06937 Filed 4-22-25; 8:45 am]

BILLING CODE 3410-34-P